FEDERAL COMMUNICATIONS COMMISSION

47 CFR Part 10

[PS Docket Nos. 15-94, 15-91; FCC 21-77; FR ID 89690]

Emergency Alert System, Wireless Emergency Alerts; National Defense Authorization Act for Fiscal Year 2021

AGENCY: Federal Communications Commission.

ACTION: Final rule; announcement of compliance date.

SUMMARY: In this document, the Commission announces that the Office of Management and Budget (OMB) has approved information collections associated with certain rules adopted in the Report and Order. The Commission also announces that compliance with the rules is now required. The Commission also removes paragraphs advising that compliance was not required until OMB approval was obtained. This document is consistent with the NDAA21 Alerting Order and rules, which state the Commission will publish a document in the Federal Register announcing a compliance date for the rule sections and revise the rules accordingly.

DATES: This rule is effective June 6, 2022.

Compliance with 47 CFR 10.11(b), published at 86 FR 46783 on August 20, 2021, is required as of July 31, 2022.

Compliance with 47 CFR 10.520(d)(2), published at 86 FR 46783 on August 20, 2021, is required as of June 6, 2022.

FOR FURTHER INFORMATION CONTACT: Chris Fedeli, Attorney-Advisor, Public Safety and Homeland Security Bureau, Policy and Licensing Division at (202) 418-1514 or christopher.fedeli@fcc.gov.

SUPPLEMENTARY INFORMATION: This is a synopsis of the Commission's Report and Order (NDAA21 Alerting Order), FCC 21-77, in PS Dockets 15-91 and 15-94, released on June 17, 2021, published at 86 FR 46783 on August 20, 2021.

This document announces that OMB approved the information collection requirements contained in 47 CFR 10.11(b) and 10.520(d)(2).

The Commission publishes this document as an announcement of the compliance date of the rules. If you have any comments on the burden estimates listed below, or how the Commission can improve the collections and reduce any burdens caused thereby, please contact Nicole Ongele, Federal Communications Commission, 45 L Street NE, Washington, DC 20554, regarding OMB Control Numbers 3060-1302. Please include the relevant OMB Control Number in your correspondence. The Commission will also accept your comments via email at PRA@fcc.gov.

To request materials in accessible formats for people with disabilities (Braille, large print, electronic files, audio format), send an email to fcc504@fcc.gov or call the Consumer and Governmental Affairs Bureau at (202) 418-0530 (voice).

Synopsis

As required by the Paperwork Reduction Act of 1995 (44 U.S.C. 3507), the FCC is notifying the public that it received OMB approval on April 14, 2022, for the information collection requirements contained in the Commission's rules at 47 CFR 10.11(b) and 10.520(d)(2).

Under 5 CFR part 1320, an agency may not conduct or sponsor a collection of information unless it displays a current, valid OMB Control Number.

No person shall be subject to any penalty for failing to comply with a collection of information subject to the Paperwork Reduction Act that does not display a current, valid OMB Control Number.

The foregoing notice is required by the Paperwork Reduction Act of 1995, Public Law 104-13, October 1, 1995, and 44 U.S.C. 3507.

The total annual reporting burdens and costs for the respondents are as follows:

OMB Control Numbers: 3060-1302.

OMB Approval Date: April 14, 2022.

OMB Expiration Date: April 30, 2025.

Title: Wireless Emergency Alerts (WEA) Handset Displays and False Alert Reporting.

Form Number: N/A.

Type of Review: New collection.

Respondents: Businesses or other for-profits; State, Local, Tribal, or Federal Government.

Number of Respondents and Responses: 23,277 respondents; 167 responses.

Estimated Time per Response: 1 hour-150 hours.

Frequency of Response: On occasion and one-time reporting requirement.

Obligation to Respond: Mandatory and Voluntary. Statutory authority for this information collection is contained in 47 U.S.C. 151, 152, 154(i), 154(o), 301, 303(r), 303(v), 307, 309, 335, 403, 544(g), 606, 613, 1201, 1202, 1203, 1204 and 1206.

Total Annual Burden: 22,815 hours.

Total Annual Cost: No cost.

Privacy Act Impact Assessment: No Impact(s).

Nature and Extent of Confidentiality: There is no assurance of confidentiality associated with this collection of information.

Needs and Uses: This is a notification of OMB approval of a new information collection for two new regulations under the Commission's part 10 Wireless Emergency Alert (WEA) rules. No other information collections contained in the Commission's regulations will be impacted by the new rules described herein.

The WEA system is a mechanism under which Commercial Mobile Service (CMS) providers may elect to transmit emergency alerts to the public. The Commission created WEA (previously known as the Commercial Mobile Service Alert System) as required by Congress in the Warning Alert and Response Network (WARN) Act and to satisfy the Commission's mandate to promote the safety of life and property through the use of wire and radio communication.

On January 1, 2021, Congress passed the William M. (Mac) Thornberry National Defense Authorization Act for Fiscal Year 2021 (NDAA21). Section 9201 of the NDAA21 required the Commission to complete a rulemaking and adopt rules within 180 days to make certain changes to its WEA regulations (as well as to its separate Emergency Alert System (EAS) regulations governing broadcast, cable television, and direct satellite media emergency alerts).

With respect to the WEA rule changes, Section 9201 directed the Commission to ensure that the mobile devices of CMS providers that have elected to participate in WEA cannot opt out of receiving WEA alerts from the Federal Emergency Management Agency (FEMA) Administrator. Section 9201 also directed the Commission to enable reporting by the FEMA Administrator and State, Tribal, local, and territorial governments of false WEA alerts. On June 21, 2021, the Commission released its NDAA21 Alerting Order, adopting the WEA and EAS changes directed by Congress in the NDAA21. The EAS changes are the subject of a different notice to be published separately.

The NDAA21 Alerting Order implemented Congresses' new directives for WEA, in part, with two new regulations that impose new burdens on respondents: the handset display update, and false alert reporting.

Handset Display Update

In the NDAA21 Alerting Order, the Commission combined the current non-optional class of WEA “Presidential Alerts” with FEMA Administrator Alerts into a newly renamed alert class named “National Alerts.” Participating CMS providers that have chosen to display the phrase “Presidential Alert” on their handsets are required to either discontinue the handset's use of that phrase or change those displays to read “National Alert” by July 31, 2022. Network infrastructure that is technically incapable of meeting this requirement, such as legacy devices or networks that cannot be updated to support header display changes, are exempt from this requirement. The handset display changes are necessary to avoid confusion when wireless subscribers receive a non-optional emergency alert from the FEMA Administrator instead of the President.

The handset display update regulation is codified at 47 CFR 10.11(b).

False Alert Reporting

Also in the NDAA21 Alerting Order, the Commission adopted a rule permitting the FEMA Administrator or a State, local, Tribal, or territorial government to voluntarily report WEA false alerts to the FCC Operations Center at FCCOPS@fcc.gov, informing the Commission of the event and any relevant details. This rule creates a voluntary mechanism for a collection of information so that the Commission can monitor these false alert events which can undermine public confidence in the reliability of emergency alerting and WEA. Email reporting was adopted as a minimally-burdensome way for government entities to report false alerts.

The WEA false alert reporting regulation is codified at 47 CFR 10.520(d)(2).

List of Subjects in 47 CFR Part 10

Communications common carriers, Radio.

Federal Communications Commission.
Marlene Dortch,
Secretary.

For the reasons discussed in the preamble, the Federal Communications Commission amends 47 CFR part 10 as follows:

PART 10—WIRELESS EMERGENCY ALERTS

1. The authority citation for part 10 continues to read:

Authority: 47 U.S.C. 151, 154(i) and (o), 201, 303(r), 403, and 606, 1202(a), (b), (c), (f), 1203, 1204, and 1206.

§ 10.11 [Amended]

2. Section 10.11 is amended by removing paragraph (c).

§ 10.520 [Amended]

3. Section 10.520 is amended by removing paragraph (d)(3).

[FR Doc. 2022-12072 Filed 6-3-22; 8:45 am]

BILLING CODE 6712-01-P